DEPARTMENT OF TRANSPORTATION

National Highway Traffic Safety Administration

[Docket No. NHTSA-2022-0092; Notice 1]

Premiori LLC, Receipt of Petition for Decision of Inconsequential Noncompliance

AGENCY: National Highway Traffic Safety Administration (NHTSA), Department of Transportation (DOT).

ACTION: Receipt of petition.

SUMMARY: Premiori, LLC, (Premiori), has determined that certain Premiorri Solazo replacement passenger car tires do not fully comply with Federal Motor Vehicle Safety Standard (FMVSS) No. 139, New Pneumatic Radial Tires for Light Vehicles. Premiori filed an original noncompliance report dated June 28, 2022, and amended the report on October 27, 2022. Premiori petitioned NHTSA on July 7, 2022, for a decision that the subject noncompliance is inconsequential as it relates to motor vehicle safety. This document announces receipt of Premiori's petition.

DATES: Send comments on or before June 22, 2023.

ADDRESSES: Interested persons are invited to submit written data, views, and arguments on this petition. Comments must refer to the docket and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

FOR FURTHER INFORMATION CONTACT: Jayton Lindley, Safety Compliance Engineer, Office of Vehicle Safety Compliance, NHTSA, (325) 655-0547.

SUPPLEMENTARY INFORMATION:

I. Overview: Premiori determined that certain Premiorri Solazo replacement passenger car tires do not fully comply with paragraphs S5.5(a) and S5.5.1 of FMVSS No. 139, New Pneumatic Radial Tires for Light Vehicles (49 CFR 571.139).

Premiori filed an original noncompliance report dated June 28, 2022, and amended the report on October 27, 2022, pursuant to 49 CFR part 573, Defect and Noncompliance Responsibility and Reports. Premiori petitioned NHTSA on July 7, 2022, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of Premiori's petition is published under 49 U.S.C. 30118 and 30120 and does not represent any agency decision or another exercise of judgment concerning the merits of the petition.

II. Tires Involved: Approximately 8 Premiorri Solazo passenger car tires size 175/65R14 82H, manufactured between February 7, 2021, and April 30, 2021, are potentially involved.

III. Noncompliance: Premiori explains that the noncompliance is due to a mold error in which the subject tires do not have the required DOT symbol and the full or partial tire identification number (TIN) on one of the two sidewalls and therefore, do not comply with paragraph S5.5(a) of FMVSS No. 139. The tires do have the required DOT symbol (and TIN) on the other sidewall.

IV. Rule Requirements: Paragraphs S5.5(a) and S5.5.1 of FMVSS No. 139 include the requirements relevant to this petition. Paragraph S5.5(a) requires each tire to be marked on each side wall with the symbol DOT, which constitutes a certification that the tire conforms to applicable FMVSSs. Paragraph S5.5.1 requires each tire to be labeled with the TIN required by 49 CFR part 574 on the intended outboard sidewall of the tire. Specifically, either the TIN or partial TIN, containing all characters in the TIN, except for the date code and, at the discretion of the manufacturer, any optional code, must be labeled on the other sidewall of the tire.

V. Summary of Premiori's Petition: The following views and arguments presented in this section, “V. Summary of Premiori's Petition,” are the views and arguments provided by Premiori. They have not been evaluated by the Agency and do not reflect the views of the Agency. Premiori describes the subject noncompliance and contends that the noncompliance is inconsequential as it relates to motor vehicle safety.

On February 17, 2022, Premiori says it received an information request from NHTSA regarding the subject noncompliance. As a result of the information request from NHTSA, Premiori inspected the molds used for the subject tires. Premiori's investigation found that one (1) of the four molds that were used for the subject tires did not have the DOT marking or TIN on one sidewall. Premiori provided information showing that the subject tires met all other labeling requirements of S5.5(a)-(i), including the symbol DOT a full TIN on one of the two sidewalls. Premiori believes that there are no safety risks associated with the affected tires stated that they have “taken corrective actions regarding this noncompliance” and all four (4) tire molds now are fully compliant.

Premiori concludes by stating its belief that the subject noncompliance is inconsequential as it relates to motor vehicle safety and its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject tires that Premiori no longer controlled at the time it determined that the noncompliance existed. However, any decision on this petition does not relieve equipment distributors and dealers of the prohibitions on the sale, offer for sale, or introduction or delivery for introduction into interstate commerce of the noncompliant tires under their control after Premiori notified them that the subject noncompliance existed.

(Authority: 49 U.S.C. 30118, 30120: delegations of authority at 49 CFR 1.95 and 501.8)

Otto G. Matheke, III,
Director, Office of Vehicle Safety Compliance.

[FR Doc. 2023-10918 Filed 5-22-23; 8:45 am]

BILLING CODE 4910-59-P